DEPARTMENT OF VETERANS AFFAIRS

Advisory Committee on Cemeteries and Memorials, Notice of Meeting

The Department of Veterans Affairs (VA) gives notice that a meeting of the Advisory Committee on Cemeteries and Memorials, authorized by 38 U.S.C. 2401, will be held Wednesday, May 3, from 8:30 am and adjourn at 5 pm and Thursday, May 4, 2000, from 8:30 am and adjourn at 5 pm, at the Arlington Hilton and Towers, Gallery Ballroom, 950 North Stafford Street, Arlington, VA. This will be the Committee's second meeting of Fiscal Year 2000.

The purpose of the Committee is to review the administration of VA's cemeteries and burial benefits program.

On Wednesday, May 3, the Committee will be updated on National Cemetery Administration (NCA) issues, including state cemetery grants program, cemetery construction, budget and legislation. In the afternoon, members will depart for the Arlington National Cemetery. Members will return to the Arlington Hilton and Towers. A reception will be held for members to meet the NCA staff.

On Thursday, May 4, the Committee will reconvene for updates and reports on military funeral honors and DOD Military Honors Legislation. In the afternoon, the Committee will discuss recommendations and endorsements.

The meeting will be open to the public. Individuals wishing to attend the meeting should contact Mrs. Paige Lowther, National Cemetery Administration, [phone (202) 273-5164] no later than 12 noon (EDT), April 26, 2000.

Any interested person may attend, appear before, or file a statement with the Committee. Individuals wishing to appear before the Committee should indicate this in a letter to Mrs. Paige Lowther, Designated Federal Official, National Cemetery Administration (40), 810 Vermont Avenue, NW, Washington, DC. 20420. In any such letters, the writers must fully identify themselves and state the organization, association or person(s) they represent. In addition, to the extent practicable, letters should indicate the subject matter to be discussed. Oral presentations should be limited to 10 minutes in duration. Individuals wishing to file written statements to be submitted to the Committee must also mail, or otherwise deliver, them to Mrs. Lowther.

Letters and written statements as discussed above must be mailed or delivered in time to reach Mrs. Lowther by 12 noon (EDT), April 26, 2000. Oral statements will be heard between 1 pm and 1:30 pm (EDT), May 4, 2000, at Arlington Hilton and Towers in Arlington, VA.

Dated: March 16, 2000.
By direction of the Secretary.
Marvin R. Eason,
Committee Management Officer.

[FR Doc. 00-7355 Filed 3-24-00; 8:45 am]

BILLING CODE 8320-01-M